DEPARTMENT OF COMMERCE

Foreign-Trade Zones Board

[B-4-2013]

Proposed Foreign-Trade Zone—Northwest Iowa; Under Alternative Site Framework

An application has been submitted to the Foreign-Trade Zones Board (the Board) by the Northwest Iowa Development Corporation to establish a foreign-trade zone (FTZ) at sites in Northwest Iowa, adjacent to the Sioux Falls, South Dakota, CBP port of entry, under the alternative site framework (ASF) adopted by the Board (15 CFR 400.2(c)). The ASF is an option for grantees for the establishment or reorganization of zones and can permit significantly greater flexibility in the designation of new “subzones” or “usage-driven” FTZ sites for operators/users located within a grantee's “service area” in the context of the Board's standard 2,000-acre activation limit for a zone project. The application was submitted pursuant to the provisions of the Foreign-Trade Zones Act, as amended (19 U.S.C. 81a-81u), and the regulations of the Board (15 CFR part 400). It was formally docketed on January 15, 2013. The applicant is authorized to make the proposal under Iowa Code 490.901.

The proposed zone would be the second zone for the Sioux Falls CBP port of entry, but would be the first zone in Iowa adjacent to that port of entry. The existing zone is: FTZ 220, Sioux Falls, South Dakota (Grantee: Sioux Falls Development Foundation, Board Order 882, 4/8/1997).

The applicant's proposed service area under the ASF would be Cherokee, Lyon, O'Brien, Osceola, Plymouth and Sioux Counties, Iowa. If approved, the applicant would be able to serve sites throughout the service area based on companies' needs for FTZ designation. The proposed service area is within and adjacent to the Sioux Falls Customs and Border Protection port of entry.

The proposed zone would include one “magnet” site: Proposed Site 1 (417.4 acres)—City of Le Mars Industrial Park in the southwest corner of Le Mars bounded by the CN rail line to the west, Industrial Road/Lynx Road to the east and County Route 38 to the south in Plymouth County. The proposed zone would also include two initial “usage-driven” sites: Proposed Site 2 (3.4 acres)—ChemSol, LLC, 1020 4th Avenue, Sibley, Osceola County; and Proposed Site 3 (0.15 acres)—Hummingbird Calibra, 202-206 First Avenue, Rock Rapids, Lyon County.

The application indicates a need for zone services in the Northwest Iowa, area. Several firms have indicated an interest in using zone procedures for warehousing/distribution activities. Specific production approvals are not being sought at this time. Such requests would be made to the Board on a case-by-case basis.

In accordance with the Board's regulations, Elizabeth Whiteman of the FTZ Staff is designated examiner to evaluate and analyze the facts and information presented in the application and case record and to report findings and recommendations to the Board.

Public comment is invited from interested parties. Submissions shall be addressed to the Board's Executive Secretary at the address below. The closing period for their receipt is March 25, 2013. Rebuttal comments in response to material submitted during the foregoing period may be submitted during the subsequent 15-day period to April 8, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: January 15, 2013.
Andrew McGilvray,
Executive Secretary.

[FR Doc. 2013-01189 Filed 1-18-13; 8:45 am]

BILLING CODE P